DEPARTMENT OF ENERGY

Federal Energy Regulatory Commission

[Docket No. CP16-487-000; PF15-32-000]

Northern Natural Gas Company; Notice of Schedule for Environmental Review of the Cedar Station Upgrade Project

On July 29, 2016, Northern Natural Gas Company (Northern) filed an application in Docket No. CP16-487-000 requesting a Certificate of Public Convenience and Necessity pursuant to section 7(c) of the Natural Gas Act to construct and operate certain natural gas pipeline facilities. The project is known as the Cedar Station Upgrade Project (Project), and would involve the construction of a new 20-inch-diameter pipeline loop ¹ to fulfill Northern's contractual obligation to provide an increased gas pressure of 650 pounds per square inch gauge to Northern States Power Company.

¹ A pipeline “loop” is a segment of pipe installed parallel to an existing pipeline.

On August 11, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA December 9, 2016

90-day Federal Authorization Decision Deadline March 9, 2017

If a schedule change becomes necessary, additional notice will be provided so that the relevant agencies are kept informed of the Project's progress.

Project Description

Northern proposes to construct the following facilities:

• About 7.86 miles of 20-inch-diameter pipeline loop;

• a pig ² launcher and takeoff valve at milepost 0.0; and

² A pig is an internal pipeline tool used to clean a pipeline and/or to inspect for damage or corrosion.

• a pig receiver and tie-in valve, and modifications to regulators and piping within the existing Cedar Meter Station boundaries.

Background

On February 23, 2016, the Commission issued a Notice of Intent to Prepare an Environmental Assessment for the Planned Cedar Station Upgrade Project, Request for Comments on Environmental Issues, and Notice of Public Scoping Meeting (NOI). The NOI was issued during the pre-filing review of the Project in Docket No. PF15-32-000 and was sent to affected landowners; federal, state, and local government agencies; elected officials; environmental and public interest groups; Native American tribes; other interested parties; and local libraries and newspapers. In response to the NOI, the Commission received comments from Dakota and Goodhue Counties, Thomas Lake Country Homes Homeowners Association, Winnebago Tribe of Nebraska, Minnesota Department of Natural Resources, and over 350 concerned landowners/stakeholders. The primary issues raised by the commentors are: Impacts on residential areas from construction; alternatives that avoid residential areas; and impacts on Lebanon Hills Regional Park and alternatives that would avoid this park.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-487), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: November 3, 2016.
Nathaniel J. Davis, Sr.,
Deputy Secretary.

[FR Doc. 2016-27066 Filed 11-8-16; 8:45 am]

BILLING CODE 6717-01-P